DEPARTMENT OF COMMERCE

International Trade Administration

[A-533-843]

Certain Lined Paper Products From India: Final Results of Antidumping Duty Administrative Review; 2011-2012

AGENCY: Enforcement and Compliance, International Trade Administration, Department of Commerce.

SUMMARY: On October 23, 2013, the Department of Commerce (the Department) published in the Federal Register the Preliminary Results of the antidumping duty administrative review of certain lined paper products from India (CLPP), and gave interested parties an opportunity to comment on the Preliminary Results.¹ The review covers two companies, Navneet Publications (India) Ltd. (Navneet) and AR Printing & Packaging (India) Pvt. Ltd. (AR Printing).² The period of review (POR) is September 1, 2011, through August 31, 2012. As a result of our analysis of the comments and information received, these final results differ from the Preliminary Results.

¹ See Certain Lined Paper Products From India: Notice of Partial Rescission and Preliminary Results of Antidumping Duty Administrative Review; 2011-2012, 78 FR 63162, (October 23, 2013) (Preliminary Results).

² Initially, this review covered 82 Indian producers/exporters of subject merchandise, but Petitioners timely withdrew their review request in its entirety. The Department rescinded this review on all producers/exporters except for the two self-requesting companies, Navneet and AR Printing. See Preliminary Results; see also Initiation of Antidumping and Countervailing Duty Administrative Reviews and Request for Revocation in Part, 77 FR 65858 (October 31, 2012). The Petitioner includes ACCO Brands USA LLC, Norcom Inc., and Top Flight, Inc. See Petitioner's letter titled “Notification of Membership Change,” dated April 1, 2013.

For these final results, we find that Navneet has not made sales of subject merchandise at less than normal value. In addition, we determine that AR Printing, the sole non-selected respondent, will receive the non-selected margin of 11.01 percent in these final results.

DATES: Effective Date: May 7, 2014.

FOR FURTHER INFORMATION CONTACT: Cindy Robinson or Eric B. Greynolds, Office III, AD/CVD Operations, Enforcement and Compliance, International Trade Administration, U.S. Department of Commerce, 14th Street and Constitution Avenue NW., Washington, DC 20230; telephone: (202) 482-3797, and (202) 482-6071, respectively.

SUPPLEMENTARY INFORMATION:

Comments From Interested Parties

On October 23, 2013, the Department published the Preliminary Results. In accordance with 19 CFR 351.309(c)(1)(ii), we invited parties to comment on our Preliminary Results.

As explained in the memorandum from the Assistant Secretary for Enforcement and Compliance, the Department exercised its discretion to toll deadlines for the duration of the closure of the Federal Government from October 1, through October 16, 2013. Therefore, all deadlines in this segment of the proceeding have been extended by 16 days.³ Pursuant to the Tolling Memo, the deadlines for briefs and the final results of this review were revised with due dates of December 9 and December 14, 2013, for case and rebuttal briefs, respectively, and March 7, 2014, for the final results.⁴

³ See Memorandum for the Record from Paul Piquado, Assistant Secretary for Enforcement and Compliance, “Deadlines Affected by the Shutdown of the Federal Government” (October 18, 2013) (Tolling Memo).

⁴ See Memorandum to File titled “Certain Lined Paper Products from India: Deadlines for Hearing Request, Briefs Submission, and Final Results,” dated October 28, 2013.

On December 9, 2013, Navneet submitted its case brief, and on December 11, 2013, Petitioners filed their case brief.⁵ On January 3, 2014, Navneet filed its rebuttal brief.

⁵ In accordance with 19 CFR 351.303(c)(2), Petitioners filed their case brief on December 9, 2013, subject to the one-day lag rule. Although Petitioners' proprietary case brief was filed December 9, 2013, Petitioners did not submit the final version until December 11, 2013. However, due to the inclement weather which caused the closure of the Federal Government on December 10, 2013, the Department affirmed that the case brief submitted by Petitioners on December 11, 2013, as timely. In addition, the Department extended the time limit for interested parties to submit rebuttal brief until January 3, 2014. See Memorandum to File, “Certain Lined Paper Products from India: Deadline for Submission of Rebuttal Brief,” dated December 23, 2013.

On February 20, 2014, the Department issued a memorandum extending the time period for issuing the final results of this administrative review from March 7, 2014, to May 9, 2014.⁶

⁶ See Memorandum to Gary Taverman, Senior Advisor for Antidumping and Countervailing Duty Operations, titled “Certain Lined Paper Products from India: Extension of Time Limit for Final Results of Antidumping Duty Administrative Review,” dated February 20, 1014.

Scope of the Order

The merchandise covered by the CLPP Order ⁷ is certain lined paper products. The product is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁸

⁷ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

⁸ For a complete description of the Scope of the Order, see “Certain Lined Paper Products from India: Issues and Decision Memorandum for the Final Results of the Antidumping Duty Administrative Review of Certain Lined Paper Products from India (2011-2012)” (“Issues and Decision Memorandum”), dated concurrently and hereby adopted by this notice; see also id.

Analysis of Comments Received

All issues raised in the case and rebuttal briefs by parties to this administrative review are addressed in the Issues and Decision Memorandum. A list of the issues that parties raised and to which we responded is attached to this notice as Appendix. The Issues and Decision Memorandum is a public document and is on file electronically via Enforcement and Compliance's Antidumping and Countervailing Duty Centralized Electronic Service System (IA ACCESS). IA ACCESS is available to registered users at http://iaaccess.trade.gov and in the Central Records Unit (CRU), room 7046 of the main Department of Commerce building. In addition, a complete version of the Issues and Decision Memorandum can be accessed directly on the Internet at http://trade.gov/enforcement. The signed Issues and Decision Memorandum and the electronic versions of the Issues and Decision Memorandum are identical in content.

Changes Since the Preliminary Results

Based on a review of the record and comments received from interested parties regarding our Preliminary Results, we recalculated Navneet's weighted-average dumping margins. Navneet's adjustments are discussed in detail in the accompanying final calculation memoranda.⁹

⁹ See Issues and Decision Memorandum; see also Memorandum to the File, Through Eric B. Greynolds, Program Manager, Office III from Cindy Robinson, Case Analyst, Office III, titled “Certain Lined Paper Products from India: Calculation Memorandum—Navneet Publications (India) Ltd. (Navneet),” dated concurrently with this notice.

Furthermore, following the changes to the dumping margins for the sole mandatory respondent in these final results,¹⁰ the rate for the sole non-selected respondent has also changed. See next sections for details.

¹⁰ The sole mandatory respondent has a de minimis dumping margin in these final results.

Rate for the Respondent Not Selected for Individual Examination

Generally, when calculating the margin for non-selected respondents, the Department looks to section 735(c)(5) of the Act for guidance, which provides instructions for calculating the all-others margin in an investigation. Section 735(c)(5)(A) of the Act provides that when calculating the all-others margin, the Department will exclude any zero and de minimis weighted-average dumping margins, as well as any weighted-average dumping margins based on total facts available. Accordingly, the Department's usual practice has been to average the margins for selected respondents, excluding margins that are zero, de minimis, or based entirely on facts available.¹¹ Section 735(c)(5)(B) of the Act also provides that where all rates are zero, de minimis or based on total facts available, the Department may use “any reasonable method” to establish the rate for non-selected respondents, including “averaging the estimated weighted average dumping margins determined for the exporters and producers individually investigated.”

¹¹ See Ball Bearings and Parts Thereof From France, Germany, Italy, Japan, and the United Kingdom: Final Results of Antidumping Duty Administrative Reviews and Rescission of Reviews in Part, 73 FR 52823, 52824 (September 11, 2008), and accompanying Issues and Decision Memorandum at Comment 16.

In this review, we calculated a de minimis weighted-average dumping margin for the sole mandatory respondent. In past reviews, the Department determined that a “reasonable method” to use when, as here, the margin for the respondent selected for individual examination is de minimis, is to assign non-selected respondents the average of the most recently determined margins that are not zero, de minimis, or based entirely on facts available (which may be from a prior review or new shipper review).¹² However, if a non-selected respondent has its own calculated margin that is contemporaneous with or more recent than previous margins, the Department applies the individually-calculated margin to the non-selected respondent, including when that margin is zero or de minimis.¹³

¹² Id.

¹³ Id.

We determine that a reasonable method for assigning a non-selected margin to AR Printing in this review is to utilize the non-selected margin of 11.01 percent utilized in the prior administrative review.¹⁴ This non-selected margin does not rely on the zeroing methodology.¹⁵ For further discussion, see the Issues and Decision Memorandum.

¹⁴ See Certain Lined Paper Products from India: Final Results of Antidumping Duty Administrative Review: 2010-2011, 78 FR 22232, 22234 (April 15, 2013) and accompanying Issues and Decision Memorandum at Comment 5.

¹⁵ See Antidumping Proceedings: Calculation of the Weighted-Average Dumping Margin and Assessment Rate in Certain Antidumping Duty Proceedings; Final Modification for Reviews, 77 FR 8101 (February 14, 2012).

Final Results of the Review

As a result of this review, the Department determines that the dumping margins for the POR are as follows:

A. Calculated Rate for Mandatory Respondent:

Producer/exporter | Weighted- average dumping margin (percent)
Navneet Publications (India) Ltd. | * 0.25
* de minimis.

B. Rate for the Non-Selected, Cooperative Respondent:

Producer/exporter | Weighted- average dumping margin (percent)
A R Printing & Packaging India | 11.01

Duty Assessment

Pursuant section 751(a)(2)(A) of the Act and 19 CFR 351.212(b), the Department determines, and U.S. Customs and Border Protection (CBP) shall assess, antidumping duties on all appropriate entries of subject merchandise in accordance with the final results of this review. The Department intends to issue appropriate assessment instructions directly to CBP 15 days after publication of the final results of this administrative review.

Pursuant to 19 CFR 351.212(b)(1), we calculated importer-specific ad valorem duty assessment rates based on the ratio of the total amount of dumping calculated for the importer's examined sales to the total entered value of those sales. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent).

The Department clarified its “automatic assessment” regulation on May 6, 2003.¹⁶ This clarification applies to entries of subject merchandise during the POR produced by companies examined in this review (i.e., companies for which a dumping margin was calculated) where the companies did not know that their merchandise was destined for the United States. In such instances, we will instruct CBP to liquidate unreviewed entries at the all-others rate if there is no rate for the intermediate company(ies) involved in the transaction.

¹⁶ For a full discussion of this clarification, see Antidumping and Countervailing Duty Proceedings: Assessment of Antidumping Duties, 68 FR 23954 (May 6, 2003).

Cash Deposit Requirements

The following cash deposit requirements will be effective upon publication of the notice of these final results of administrative review for all shipments of subject merchandise entered, or withdrawn from warehouse, for consumption on or after the publication of the final results of this administrative review, as provided by section 751(a)(2)(C) of the Act: (1) For companies covered by this review, the cash deposit rate will be the rates listed above; (2) for previously reviewed or investigated companies other than those covered by this review, the cash deposit rate will be the company-specific rate established for the most recent period; (3) if the exporter is not a firm covered in this review, a prior review, or the original investigation, but the producer is, the cash deposit rate will be the rate established for the most recent period for the producer of the subject merchandise; and (4) if neither the exporter nor the producer is a firm covered in this review, a prior review, or the original investigation, the cash deposit rate will be 3.91 percent, the all-others rate established in the original investigation.¹⁷ These cash deposit requirements, when imposed, shall remain in effect until further notice.

¹⁷ See CLPP Order.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in the Department's presumption that reimbursement of antidumping and/or countervailing duties occurred and the subsequent increase in antidumping duties by the amount of antidumping and/or countervailing duties reimbursed.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act.

Dated: April 30, 2014.
Paul Piquado,
Assistant Secretary for Enforcement and Compliance.

Appendix

I. Summary

II. List of Comments in the Accompanying Final Issues and Decision Memorandum:

Comment 1: Whether Navneet's Claim for Duty Drawback Adjustments Are Valid

Comment 2: Calculation Error Regarding Navneet's Drawback Credits

Comment 3: Whether Navneet's Early Payment Discounts and Other Rebates Claims for Home Market Sales Are Valid

III. Background

IV. The Proper Rate To Apply to AR Printing, the Non-Selected Respondent

V. Scope of the Order

VI. Analysis of Comments

VII. Recommendation

[FR Doc. 2014-10519 Filed 5-6-14; 8:45 am]

BILLING CODE 3510-DS-P